DEPARTMENT OF ENERGY

Federal Energy Regulatory Commission

[Docket Nos. EC06-71-000, et al.]

Duke Energy Trading and Marketing, L.L.C., et al.; Electric Rate and Corporate Filings

January 31, 2006.

The following filings have been made with the Commission. The filings are listed in ascending order within each docket classification.

1. Duke Energy Trading and Marketing, L.L.C.

[Docket No. EC06-71-000]

Take notice that on January 26, 2006, Duke Energy Trading and Marketing, L.L.C. (DETM) and Constellation Energy Commodities Group, Inc. (CCG) filed with the Commission an application pursuant to section 203 of the Federal Power Act for authorization of the transfer by DETM of two wholesale power transactions to CCG. DETM and CCG have requested privileged treatment for commercially sensitive information contained in the application.

Comment Date: 5 p.m. eastern time on February 16, 2006.

2. General Electric Capital Corporation; Deville Energy, LLC

[Docket No. EC06-72-000]

Take notice that on January 27, 2006, General Electric Capital Corporation and Deville Energy, LLC (Applicants) submitted an application pursuant to section 203 of the Federal Power Act for authorization of disposition of jurisdictional facilities resulting from a proposed sale of a biomass-fired qualifying small power production facility.

Comment Date: 5 p.m. eastern time on February 17, 2006.

3. Inland Empire Energy Center, LLC

[Docket No. EG06-30-000]

Take notice that on January 25, 2006, Inland Empire Energy Center, LLC (Inland Empire) tendered for filing pursuant to section 32(a)(1) of the Public Utility Holding Company Act of 1935 an application for determination of exempt wholesale generator status.

Comment Date: 5 p.m. eastern time on February 7, 2006.

4. Entergy Arkansas, Inc.

[Docket Nos. EL04-134-005 and EL05-15-007]

Take notice that on January 23, 2006, Entergy Arkansas, Inc. tendered for filing a refund report related to refunds to East Texas Electric Cooperative in compliance with Commission Order issued November 7, 2005, 113 FERC ¶ 61,137 (2005).

Comment Date: 5 p.m. eastern time on February 13, 2006.

5. City of Vernon, California

[Docket No. EL06-32-000]

Take notice that on January 20, 2006, the City Vernon, California tendered for filing verification of the calculations to its revised Transmission Revenue Balancing Account Adjustment submitted on December 15, 2005, for the calendar year 2006.

Comment Date: 5 p.m. eastern time on February 6, 2006.

6. Thumb Electric Cooperative

[Docket Nos. OA05-1-000 and TS05-17-000]

Take notice that on July 28, 2005, Thumb Electric Cooperative (Thumb) requests the Commission waive the Open Access Same Time Information Systems requirements and functional separation requirements of the Standards of Conduct for Transmission Providers established by Order 889 and amended by Order 2004.

Comment Date: 5 p.m. eastern time on February 15, 2006.

7. Attala Transmission LLC

[Docket No. TS05-18-000]

Take notice that on June 29, 2005, Attala Transmission LLC (Attala), submitted for filing copies of the executed Interconnection and Service Charge Agreement, dated June 28, 2005, between Attala and Entergy Mississippi, Inc.

Comment Date: 5 p.m. eastern time on February 15, 2006.

8. Hardee Power Partners Limited

[Docket No. TS06-6-000]

Take notice that on December 15, 2005, Hardee Power Partners Limited tendered for filing with the Commission request for waiver of Orders Nos. 888 and 889 and Part 358 of the Commission's regulations.

Comment Date: 5 p.m. eastern time on February 7, 2006.

Standard Paragraph

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E6-1552 Filed 2-3-06; 8:45 am]

BILLING CODE 6717-01-P